FEDERAL ACCOUNTING STANDARDS ADVISORY BOARD

Notice of Issuance of Technical Bulletin 2023-1, Intragovernmental Leasehold Reimbursable Work Agreements

AGENCY: Federal Accounting Standards Advisory Board.

ACTION: Notice.

SUMMARY: Notice is hereby given that the Federal Accounting Standards Advisory Board (FASAB) has issued Technical Bulletin (TB) 2023-1 titled Intragovernmental Leasehold Reimbursable Work Agreements.

ADDRESSES: The TB is available on the FASAB website at http://www.fasab.gov/accounting-standards/. Copies can be obtained by contacting FASAB at (202) 512-7350.

FOR FURTHER INFORMATION CONTACT: Ms. Monica R. Valentine, Executive Director, 441 G Street NW, Suite 1155, Washington, DC 20548, or call (202) 512-7350.

Authority: 31 U.S.C. 3511(d); Federal Advisory Committee Act, 5 U.S.C. 1001-1014.

Dated: March 17, 2023.
Monica R. Valentine,
Executive Director.

[FR Doc. 2023-05963 Filed 3-22-23; 8:45 am]

BILLING CODE 1610-02-P